DEPARTMENT OF COMMERCE

Submission for OMB Review; Comment Request

The Department of Commerce will submit to the Office of Management and Budget (OMB) for clearance the following proposal for collection of information under the provisions of the Paperwork Reduction Act.

Agency: U.S. Census Bureau.

Title: American Community Survey Methods Panel Tests, 2020 Specialized Mail Materials Test.

OMB Control Number: 0607-0936.

Form Number(s): ACS-1(X) (2020), ACS internet.

Type of Request: Non-Substantive Change Request.

Number of Respondents: 2,016,000.

Average Hours per Response: 40 minutes for the average household questionnaire.

Burden Hours: No additional burden hours are requested under this non-substantive change request.

Needs and Uses: The American Community Survey (ACS) collects detailed socioeconomic data from about 3.5 million housing units in the United States and 36,000 in Puerto Rico each year. The ACS also collects detailed socioeconomic data from about 195,000 residents living in Group Quarter (GQ) facilities. An ongoing data collection effort with an annual sample of this magnitude requires that the ACS continue research, testing, and evaluations aimed at reducing respondent burden, improving data quality, achieving survey cost efficiencies, and improving ACS questionnaire content and related data collection materials. The ACS Methods Panel is a research program designed to address and respond to issues and survey needs.

Households in sample for the ACS in 2020 are legally required to respond to both the ACS and the decennial census. Receiving two sets of mailings in one calendar year can be confusing to respondents, which can increase the perception that the ACS is burdensome and intrusive and decrease the rate of self-response. During the 2010 Census, ACS response rates were higher than usual in the first few months of the year but were lower than usual in the spring and summer months (Chesnut and Davis 2011, Baumgardner 2013). The increased response rates early in the year were attributed to the decennial census communications campaign while the decrease later in the year was attributed to respondent confusion or burden, as respondents had already filled out the decennial census form.

To mitigate these issues, a set of modified mail materials were developed with language that directly addresses the difference between the ACS and the 2020 Census, in order to differentiate the two. These materials will be used during the main response period for the 2020 Census, March through September. The language modifications in the 2020 ACS materials are based on an evaluation conducted by the Census Bureau in 2010 to examine the use of modified language, color, and branding to create a distinct identity for the ACS (Chesnut and Davis 2011). Additionally, cognitive interviews of the 2020 ACS modified materials were conducted in the fall of 2018.

In order to assess the effect of the modified messaging in the ACS materials the Census Bureau is proposing to conduct the 2020 Specialized Mail Materials Test. From March through September, the ACS will use mail materials that help clarify that these mailings are not for the 2020 Census. This will be the control treatment for the experiment and will be sent to approximately 264,000 sampled addresses each month. The experimental treatment will not contain the modified language but otherwise will be the same as the control materials. These materials will be sent to approximately 24,000 sampled addresses each month from March through September and will also be used for ACS production for the remainder of the year (January, February, and October through December).

Affected Public: Individuals or households.

Frequency: One-time test, over seven months.

Respondent's Obligation: Mandatory.

Legal Authority: Title 13, United States Code, Sections 141, 193, and 221.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer, Commerce Department.

[FR Doc. 2019-23880 Filed 10-31-19; 8:45 am]

BILLING CODE 3510-07-P